LEGAL SERVICES CORPORATION

Sunshine Act Meeting of the Board of Directors Committee on Provision for the Delivery of Legal Services

Time and Date: The Committee on Provision for the Delivery of Legal Services of the Legal Services Corporation Board of Directors will meet on September 7, 2001. The meeting will begin at 10 a.m. and continue until the Committee concludes its agenda.

Location: Hilton Alexandria Mark Center, 5000 Seminary Road, Alexandria, Virginia.

Status of Meeting: Open.

Matters To Be Considered:

1. Approval of agenda.

2. Approval of the minutes of the Committee's meeting of June 29, 2001.

3. Update by Bob Gross on the Creation of State Justice Communities.

4. Update by Michael Genz and Reginald Haley on the 2002 Competition.

5. Update by Glenn Rawdon and Joyce Raby on the Technology Grants.

6. Update by Pat Hanrahan on LSC's Diversity Activities.

7. Update by John Eidleman on the 2001 Program “Quality” Visits.

8. Report by Anh Tu and Cyndy Schneider on LSC's Visit to Micronesia and Guam.

9. Consider and act on other business.

10. Public comment.

Contact Person for Information: Victor M. Fortuno, Vice President for Legal Affairs, General Counsel & Secretary of the Corporation, at (202) 336-8800.

Special Needs: Upon request, meeting notices will be made available in alternate formats to accommodate visual and hearing impairments. Individuals who have a disability and need an accommodation to attend the meeting may notify Elizabeth S. Cushing, at (202) 336-8800.

Dated: August 30, 2001.
Victor M. Fortuno,
Vice President for Legal Affairs, General Counsel and Corporate Secretary.

[FR Doc. 01-22438 Filed 8-31-01; 4:08 pm]

BILLING CODE 7050-01-M